COMMODITY FUTURES TRADING COMMISSION

Global Markets Advisory Committee

AGENCY: Commodity Futures Trading Commission.

ACTION: Notice of meeting.

SUMMARY: The Commodity Futures Trading Commission (CFTC) announces that on July 17, 2023, from 9 a.m. to 4 p.m. (Eastern Daylight Time), the Global Markets Advisory Committee (GMAC or Committee) will hold an in-person meeting for GMAC members at the New York Stock Exchange, 11 Wall Street, New York, New York, with options for the public to attend virtually. At this meeting, the GMAC will focus on topics related to U.S. Treasury market reforms, swap block thresholds, and tokenization of assets. The GMAC will also address procedural matters, including topics of discussion on a forward-looking basis.

DATES: The meeting will be held on July 17, 2023, from 9 a.m. to 4 p.m. (Eastern Standard Time). Members of the public who wish to submit written statements in connection with the meeting should submit them by July 24, 2023.

ADDRESSES: The meeting will take place at the New York Stock Exchange, 11 Wall Street, New York, New York, for GMAC members. Members of the public may attend the meeting virtually via teleconference or live webcast. You may submit public comments, identified by Global Markets Advisory Committee, through the CFTC website at https://comments.cftc.gov. Follow the instructions for submitting comments through the Comments Online process on the website. If you are unable to submit comments online, contact Brigitte Weyls, Designated Federal Officer, via the contact information listed below to discuss alternate means of submitting your comments. Any statements submitted in connection with the committee meeting will be made available to the public, including publication on the CFTC website, https://www.cftc.gov.

FOR FURTHER INFORMATION CONTACT: Brigitte Weyls, GMAC Designated Federal Officer, Commodity Futures Trading Commission, 77 West Jackson Blvd., Suite 800, Chicago, IL 60604; (312) 596-0700; or Gates S. Hurand, GMAC Alternate Designated Federal Officer, Commodity Futures Trading Commission, 290 Broadway, 6th Floor, New York, New York 10007 (646) 746-9700, GMAC_Submissions@CFTC.gov.

SUPPLEMENTARY INFORMATION: Members of the public may listen to the meeting by telephone by calling a domestic or international toll or toll-free number to connect to a live, listen-only audio feed. Call-in participants should be prepared to provide their first name, last name, and affiliation. The meeting will also be open to the public via teleconference.

Domestic Toll and Toll-Free Numbers:

833 435 1820 U.S. Toll Free

833 568 8864 U.S. Toll Free

+1 669 254 5252 U.S. (San Jose)

+1 646 828 7666 U.S. (New York)

+1 646 964 1167 U.S. (U.S. Spanish Line)

+1 415 449 4000 U.S. (U.S. Spanish Line)

+1 551 285 1373 U.S.

+1 669 216 1590 US (San Jose)

International Toll- and Toll Free Numbers: Will be posted on the CFTC's website, https://www.cftc.gov, on the page for the meeting, under Related Links.

Call-In/Webinar ID: 161 909 7276.

Passcode/Pin Code: 284176.

Members of the public may also view a live webcast of the meeting via the https://www.cftc.gov website. The meeting agenda may change to accommodate other Committee priorities. For agenda updates, please visit https://www.cftc.gov/About/AdvisoryCommittees/GMAC.

After the meeting, a transcript of the meeting will be published through a link on the CFTC's website, https://www.cftc.gov. Persons requiring special accommodations to attend the meeting virtually or via teleconference because of a disability should notify the individual listed in the FOR FURTHER INFORMATION CONTACT section of this notice.

Authority: 5 U.S.C. 1001 et seq.

Dated: June 26, 2023.
Robert Sidman,
Deputy Secretary of the Commission.

[FR Doc. 2023-13871 Filed 6-28-23; 8:45 am]

BILLING CODE 6351-01-P